DEPARTMENT OF ENERGY

Federal Energy Regulatory Commission

[CP01-394-000]

Columbia Gas Transmission Corporation; Notice of Request Under Blanket Authorization

June 29, 2001.

Take notice that on June 19, 2001, Columbia Gas Transmission Corporation (Columbia Gas), P.O. Box 1273, Charleston, West Virginia 25325-1273, filed in Docket No. CP01-394-000 a request pursuant to Sections 157.205 and 157.211 of the Commission's Regulations under the Natural Gas Act (18 CFR 157.205 and 157.211) for authorization to construct and operate a new delivery point to Knox Energy Cooperation Association Inc., located in Knox County, Ohio, under Columbia Gas' blanket certificate issued in Docket CP83-76-000 pursuant to Section 7 of the Natural Gas Act, all as more fully set forth in the request which is on file with the Commission and open to public inspection. This filing may be viewed on the web at http://www.ferc.gov using the “RIMS” link, select “Docket #” from the RIMS Menu and follow the instructions (please call (202) 208-2222 for assistance).

Columbia Gas states that the new point of delivery will consist of installing a tap and a valve and that the estimated quantity of natural gas to be delivered at the new delivery point is 3,600 dekatherms per day. Columbia Gas declares that the estimated cost of construction if $20,890. Columbia Gas states that service is currently being provided by Ohio Cumberland Gas Company (Ohio Cumberland). Columbia Gas asserts that Ohio Cumberland has waived its rights to continue providing the service.

Columbia Gas states that the quantities of natural gas to be provided through the new point of delivery will be within Columbia Gas's authorized level of services. Columbia Gas asserts there is no impact on their existing design day and annual obligations to the customers as a result of the construction and operation of the new delivery point for firm transportation service.

Any questions regarding the application should be directed to Fredric J. George, Attorney, Columbia Gas Transmission Corporation, P.O. Box 1273, Charleston, West Virginia 25325-1273, at (304) 357-2359, Telecopier: (304) 357-3206.

Any person or the Commission's staff may, within 45 days after issuance of the instant notice by the Commission, file pursuant to Rule 214 of the Commission's Procedural Rules (18 CFR 285.214) a motion to intervene or notice of intervention and pursuant to Section 157.205 of the Regulations under the Natural Gas Act (18 CFR 157.205), a protest to the request. If no request is filed within the time allowed therefor, the proposed activity shall be deemed to be authorized effective the day after the time allowed for protest. If a protest is filed and not withdrawn within 30 days after the time allowed for filing a protest, the instant request shall be treated as an application for authorization pursuant to Section 7 of the Natural Gas Act. Comments, protests and interventions may be filed electronically via the Internet in lieu of paper. See, 18 CFR 385.2001(a)(1)(iii) and instructions on the Commission's web site at http://www.ferc.gov under the link to the User's Guide. If you have not yet established an account, you will need to create a new account by clicking on “Login to File” and then “New User Account.”

David P. Boergers,
Secretary.

[FR Doc. 01-16897 Filed 7-5-01; 8:45 am]

BILLING CODE 6710-01-M